DEPARTMENT OF TRANSPORTATION

Federal Railroad Administration

[Docket Number FRA-2016-0018]

Notice of Public Hearing for Statutory Exemption

On March 21, 2016, the Federal Railroad Administration (FRA) published a notice in the Federal Register (81 FR 15146) regarding the Association of American Railroads' (AAR) request for a waiver of compliance and statutory exemption from certain provisions of Title 49 Code of Federal Regulations (CFR) Part 232-Brake System Safety Standards for Freight and Other Non-Passenger Trains and Equipment; End-of-Train Devices. Specifically, AAR petitioned FRA for a waiver of compliance from 49 CFR 232.213-Extended haul trains, 49 CFR 232.15-Movement of defective equipment, and 49 CFR 232.103(f)-General requirements for all train brake systems; and requests a statutory exemption to 49 U.S.C. 20303-Moving defective and insecure vehicles needing repairs, for the purposes of conducting testing to demonstrate the effectiveness of using wayside wheel temperature detector data to ensure safe braking performance. This petition was assigned Docket Number FRA-2016-0018.

Pursuant to 49 U.S.C. 20306-Exemption for technological improvements, AAR has requested a hearing during which evidence can be developed for a statutory exemption to 49 U.S.C. 20303. Accordingly, a hearing is scheduled to begin at 10 a.m. September 13, 2016, at the National Housing Center, National Association of Home Builders, 1201 15th Street NW., Washington, DC 20005. Interested parties are invited to present oral statements at this hearing. For information on facilities or services for persons with disabilities, or to request special assistance at the hearing, contact Mr. Steven Zuiderveen, FRA Railroad Safety Specialist, by telephone, email, or in writing, at least 5 business days before the date of the hearing. Mr. Zuiderveen's contact information is as follows: FRA, Office of Railroad Safety, Mail Stop 25, 1200 New Jersey Avenue SE., Washington, DC 20590; (202) 493-6337; Steven.Zuiderveen@dot.gov. The informal hearing will be conducted by a representative designated by FRA in accordance with FRA's Rules of Practice (see specifically 49 CFR 211.25). FRA's representative will make an opening statement outlining the scope of the hearing, as well as any additional procedures for the conduct of the hearing. The hearing will be a non-adversarial proceeding in which all interested parties will be given the opportunity to express their views regarding the waiver petition without cross examination. After all initial statements have been completed, those individuals wishing to make brief rebuttal statements will be given an opportunity to do so.

In addition, FRA is extending the comment period for this waiver petition to October 13, 2016, to allow adequate time for any additional comments to be submitted following the public hearing scheduled for September 13, 2016.

Communications received by that date will be considered by FRA before final action is taken. Comments received after that date will be considered as far as practicable. All communications concerning these proceedings should identify the appropriate docket number and may be submitted by any of the following methods:

• Web site: http://www.regulations.gov. Follow the online instructions for submitting comments.

• Fax: 202-493-2251.

• Mail: Docket Operations Facility, U.S. Department of Transportation (DOT), 1200 New Jersey Avenue SE., W12-140, Washington, DC 20590.

• Hand Delivery: 1200 New Jersey Avenue SE., Room W12-140, Washington, DC 20590, between 9 a.m. and 5 p.m., Monday through Friday, except Federal Holidays.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL- 14 FDMS), which can be reviewed at www.dot.gov/privacy. See also http://www.regulations.gov/#!privacyNotice for the privacy notice of regulations.gov.

Robert C. Lauby,
Associate Administrator for Railroad Safety, Chief Safety Officer.

[FR Doc. 2016-14534 Filed 6-20-16; 8:45 am]

BILLING CODE 4910-06-P